DEPARTMENT OF STATE

[Public Notice: 10515]

Notification of United States-Chile Environment Affairs Council and Joint Commission on Environmental Cooperation Meetings

ACTION: Request for comments; invitation to public session.

SUMMARY: The Department of State and the Office of the United States Trade Representative are providing notice that the parties to the U.S.-Chile Free Trade Agreement (FTA) intend to hold the eighth meeting of the Environment Affairs Council (Council) established under Chapter 19 of the FTA, as well as the sixth meeting of the U.S.-Chile Joint Commission on Environmental Cooperation (Commission) established under the U.S.-Chile Environmental Cooperation Agreement (ECA), on Tuesday September 4, 2018. The Council will review implementation of Chapter 19 (Environment) of the FTA, and the Commission will review implementation of the ECA.

DATES: The public session of the Council and Commission will be held on September 5, 2018, beginning at 10:00 a.m. at the Chilean Ministry of Foreign Affairs, 180 Teatinos St., Santiago, Chile. We request RSVPs and any written comments no later than August 28, 2018, in order to facilitate consideration.

ADDRESSES: RSVPs and any written comments should be submitted to both:

(1) Keri Holland, U.S. Department of State, Bureau of Oceans and International Environmental and Scientific Affairs, Office of Environmental Quality and Transboundary Issues, by email at HollandKJ@state.gov with the subject line “UNITED STATES-CHILE EAC/JCEC MEETING” or by fax to (202) 647-5947.

(2) Tia Potskhverashvili, United States Trade Representative, Office of the U.S. Trade Representative for Environment and Natural Resources, by email at tiapots@ustr.eop.gov with the subject line “UNITED STATES-CHILE EAC/JCEC MEETING” or by fax to (202) 395-9517.

In your RSVP, please include your full name and affiliation.

If you have access to the internet you can view and comment on this notice by going to: http://www.regulations.gov/#!home and searching on docket number DOS-2018-0034.

FOR FURTHER INFORMATION CONTACT: Keri Holland, telephone (202) 647-6777, HollandKJ@state.gov.

SUPPLEMENTARY INFORMATION: The United States and Chile negotiated the United States-Chile FTA and United States-Chile ECA in concert, signing the FTA on June 6, 2003, in Miami, USA and the ECA on June 17, 2003, in Santiago, Chile. Article 19.3 of the FTA establishes an Environment Affairs Council (Council). The Council discusses implementation of Chapter 19 of the FTA, and its meetings include a public session. The Joint Commission on Environmental Cooperation (Commission) was established in Article II of the ECA. The Commission evaluates cooperative activities under the ECA, recommends options for improving cooperation, and establishes work programs that reflect national priorities and that identify the scope and focus of environmental cooperation activities. Commission meetings also include a public session.

The Council and Commission last met in August 2015 in Washington, DC. The Council reviewed the implementation of the Environment Chapter of the FTA. The Commission approved the 2015-2017 Work Program, which built on previous successes and identified activities to achieve the long-term goals of: (1) Strengthening effective implementation and enforcement of environmental laws and regulations; (2) encouraging development and adoption of sound environmental practices and technologies, particularly in business enterprises; (3) promoting sustainable development and management of environmental resources, including wild fauna and flora, protected wild areas, and other ecologically important ecosystems; and (4) encouraging civil society participation in the environmental decision-making process and environmental education.

During the Council and Commission meetings, Members will discuss the progress made in implementing Chapter 19 obligations and the impacts of environmental cooperation. The Commission will also finalize an updated Environmental Cooperation Work Program for 2018-2020. More information on the Council and Commission is included below under Supplementary Information.

All interested persons are invited to attend the Council and Commission joint public session beginning at 10:00 a.m. on September 5, 2018, at the Chilean Ministry of Foreign Affairs, 180 Teatinos St., Santiago, Chile. Attendees will have an opportunity to ask questions and discuss implementation of Chapter 19 and the ECA with Council and Commission Members and environmental cooperation implementers. At the public session, the Council will receive input from the public on current environmental issues and ideas for future cooperation. The Department of State and Office of the United States Trade Representative invite written comments or suggestions regarding topics to be discussed at the meeting. In preparing comments, we encourage submitters to refer to Chapter 19 of the FTA and the ECA (available at http://www.state.gov/e/oes/eqt/trade/chile/index.htm).

If you would like to attend the public session, please notify Keri Holland and Tia Potskhverashvili at the email addresses listed above under the heading ADDRESSES. Please include your full name and identify any organization or group you represent. In preparing comments, we encourage submitters to refer to:

• Chapter 19 of the FTA, and

• The ECA.

These documents are available at: http://www.state.gov/e/oes/eqt/trade/chile/index.htm. Visit http://www.state.gov and the USTR website at www.ustr.gov for more information.

Robert D. Wing,
Acting Director, Office of Environmental Quality and Transboundary Issues, Department of State.

[FR Doc. 2018-18242 Filed 8-23-18; 8:45 am]

BILLING CODE 4710-09-P